ENVIRONMENTAL PROTECTION AGENCY

[ER-FRL-9019-2]

Environmental Impact Statements; Notice of Availability

Responsible Agency: Office of Federal Activities, General Information (202) 564-7146 or http://www.epa.gov/compliance/nepa/.

Weekly receipt of Environmental Impact Statements

Filed 01/12/2015 Through 01/16/2015

Pursuant to 40 CFR 1506.9.

Notice

Section 309(a) of the Clean Air Act requires that EPA make public its comments on EISs issued by other Federal agencies. EPA's comment letters on EISs are available at: http://www.epa.gov/compliance/nepa/eisdata.html.

EIS No. 20150015, Final EIS, BPA, ID, Hooper Springs Transmission Project, Review Period Ends: 02/23/2015, Contact: Tish Eaton 503-230-3469.

EIS No. 20150016, Final EIS, FHWA, FL, SR 997/SW 177th Avenue/Krome Avenue South, Contact: Cathy Kendall 850-553-2225.

Under MAP-21 section 1319, FTA has issued a single FEIS and ROD. Therefore, the 30-day wait/review period under NEPA does not apply to this action.

EIS No. 20150017, Draft EIS, USN, NV, Military Readiness Activities at Fallon Range Training Complex, Comment Period Ends: 03/09/2015, Contact: Amy Kelley 619-532-2799.

EIS No. 20150018, Draft EIS, FHWA, TX, SH 249 Extension, Comment Period Ends: 03/09/2015, Contact: Carlos Swonke 512-416-2734.

Amended Notices

EIS No. 20150011, Draft EIS, BR, CA, North Valley Regional Recycled Water Program, Comment Period Ends: 03/03/2015, Contact: Benjamin Lawrence (559) 487-5039.

Revision to FR Notice Published 01/16/2015; Extended Comment Period from 03/03/2015 to 03/10/2015.

Dated: January 20, 2015.
Cliff Rader,
Director, NEPA Compliance Division, Office of Federal Activities.

[FR Doc. 2015-01175 Filed 1-22-15; 8:45 am]

BILLING CODE 6560-50-P